DEPARTMENT OF COMMERCE

National Oceanic and Atmospheric Administration

[RTID 0648-XD017]

Endangered and Threatened Species; Take of Anadromous Fish

AGENCY: National Marine Fisheries Service (NMFS), National Oceanic and Atmospheric Administration (NOAA), Commerce.

ACTION: Notice; issuance of 17 scientific research permits.

SUMMARY: Notice is hereby given that NMFS has issued 17 scientific research permits under the Endangered Species Act (ESA) to the individuals and organizations listed in Table 1. The research is intended to increase knowledge of species listed under the ESA and to help guide management and conservation efforts.

ADDRESSES: The permits and related documents are available for review upon written request via email to nmfs.wcr-research-permits@noaa.gov (please include the permit number in the subject line of the email).

FOR FURTHER INFORMATION CONTACT: Diana Dishman, Portland, OR (ph.: 503-736-4466, email: Diana.Dishman@noaa.gov).

SUPPLEMENTARY INFORMATION: Notice was published in the Federal Register on the dates listed below that requests for permits and permit modifications had been submitted by the below-named applicants. To locate the Federal Register notice that announced our receipt of the applications and a complete description of the research, go to https://www.federalregister.gov and search on the permit number and Federal Register notice information provided in the table below.

Table 1—Issued Permits and Permit Modifications
Permit No. | RTID | Applicant | Previous Federal Register notice | Issuance date
1124-7R | 0648-XC294 | Idaho Department of Fish and Game; 1800 Trout Rd.; Eagle, ID 83616 (Responsible Party: Lance Hebdon) | 87 FR 52745, August 29, 2022 | October 5, 2022.
1585-5R | 0648-XC294 | Washington Department of Natural Resources; 950 Farman Avenue North; Enumclaw, WA 98022 (Responsible Party: Alan Mainwaring) | 87 FR 52745, August 29, 2022 | October 11, 2022.
14283-4R | 0648-XC294 | Environmental Assessment Services; 350 Hills St. Suite 112; Richland, WA 99354 (Responsible Party: Cole Lindsey) | 87 FR 52745, August 29, 2022 | October 13, 2022.
15730-3R | 0648-XC294 | Salmon Protection and Watershed Network; P.O. Box 370; Forest Knolls, CA 94933 (Responsible Party: Todd Steiner) | 87 FR 52745, August 29, 2022 | January 5, 2023.
16110-3R | 0648-XC294 | Marin Municipal Water District; 220 Nellen Ave.; Corte Madera, CA 94925 (Responsible Party: Jonathan Koehler) | 87 FR 52745, August 29, 2022 | January 1, 2023.
16417-4R | 0648-XC294 | Santa Clara Valley Water District; 5750 Almaden Expressway; San Jose, CA 95118 (Responsible Party: Rick Callender) | 87 FR 52745, August 29, 2022 | January 18, 2023.
16446-3R | 0648-XC294 | Confederated Tribes of the Umatilla Indian Reservation; Nixyáawii Governance Center; Pendleton, OR 97801 (Responsible Party: Gene Shippentower) | 87 FR 52745, August 29, 2022 | October 3, 2022.
16979-3R | 0648-XC294 | Washington Department of Fish and Wildlife, Fish Management Division; 600 Capitol Way North; Olympia, WA 98501-1091 (Responsible Party: Michael Tonseth) | 87 FR 52745, August 29, 2022 | October 24, 2022.
17428-4R | 0648-XC294 | U.S. Fish and Wildlife Service, Lodi Fish and Wildlife Office; 2800 Cottage Way; Sacramento, CA 95826 (Responsible Party: Erin Strange) | 87 FR 52745, August 29, 2022 | January 1, 2023.
17851-4R | 0648-XC294 | Coastal Watershed Institute; P.O. Box 266; Port Angeles, WA 98362 (Responsible Party: Dr. J. Anne Shaffer) | 87 FR 52745, August 29, 2022 | January 1, 2023.
18001-4R | 0648-XC294 | Pierce County Washington Department of Public Works and Utilities; 2702 S 42nd St., Ste 201; Tacoma, WA 98409-7322 (Responsible Party: Erick Thompson) | 87 FR 52745, August 29, 2022 | January 1, 2023.
20792-2R | 0648-XC294 | FISHBIO Inc.; 1617 South Yosemite Ave.; Oakdale, CA 95361 (Responsible Party: Andrea Fuller) | 87 FR 52745, August 29, 2022 | January 1, 2023.
21571-3R | 0648-XC294 | U.S. Geological Survey; 5501-A Cook-Underwood Rd.; Cook, WA 98605 (Responsible Party: Amy Hansen) | 87 FR 52745, August 29, 2022 | October 11, 2022.
22127-2R | 0648-XC294 | U.S. Fish and Wildlife Service; 500 Desmond Drive SE; Lacey, WA 98503 (Responsible Party: Roger Peters) | 87 FR 52745, August 29, 2022 | January 1, 2023.
26368 | 0648-XC294 | Idaho State University; 1856 S 3rd Ave.; Pocatello, ID 93201 (Responsible Party: Tyler Breech) | 87 FR 52745, August 29, 2022 | October 6, 2022.
26412 | 0648-XC294 | FISHBIO Inc.; 3188 Wood Creek Drive; Chico, CA 95928 (Responsible Party: Doug Demko) | 87 FR 52745, August 29, 2022 | January 6, 2023.
26626 | 0648-XC294 | National Park Service, Olympic National Park; 600 East Park Ave., Port Angeles, WA 98362 (Responsible party: Sam Brenkman) | 87 FR 52745, August 29, 2022 | October 7, 2022.

In compliance with the National Environmental Policy Act of 1969 (42 U.S.C. 4321 et seq.), a final determination has been made that the activities proposed are categorically excluded from the requirement to prepare an environmental assessment or environmental impact statement.

Authority

Scientific research permits are issued in accordance with section 10(a)(1)(A) of the ESA (16 U.S.C. 1531 et. seq.) and regulations governing listed fish and wildlife permits (50 CFR 222-226). NMFS issues permits based on finding that such permits: (1) are applied for in good faith; (2) if granted and exercised, would not operate to the disadvantage of the listed species that are the subject of the permit; and (3) are consistent with the purposes and policy of section 2 of the ESA. The authority to take listed species is subject to conditions set forth in the permits.

Dated: May 11, 2023.
Angela Somma,
Chief, Endangered Species Division, Office of Protected Resources, National Marine Fisheries Service.

[FR Doc. 2023-10445 Filed 5-16-23; 8:45 am]

BILLING CODE 3510-22-P